DEPARTMENT OF TRANSPORTATION

Research and Special Programs Administration

Office of Hazardous Materials Safety; Notice of Applications for Modification of Exemption

AGENCY: Research and Special Programs Administration, DOT.

ACTION: List of Applications for Modification of Exemptions.

SUMMARY: In accordance with the procedures governing the application for, and the processing of, exemptions from the Department of Transportation's Hazardous Materials Regulations (49 CFR Part 107, Subpart B), notice is hereby given that the Office of Hazardous Materials Safety has received the applications described herein. This notice is abbreviated to expedite docketing and public notice. Because the sections affected, modes of transportation, and the nature of application have been shown in earlier Federal Register publications, they are not repeated here. Requests for modifications of exemptions (e.g., to provide for additional hazardous materials, packaging design changes, additional mode of transportation, etc.) are described in footnotes to the application number. Application numbers with the suffix “M” denote a modification request. These applications have been separated from the new applications for exemptions to facilitate processing.

DATES: Comments must be received on or before March 15, 2000.

ADDRESS COMMENTS TO: Records Center, Research and Special Programs Administration, U.S. Department of Transportation, Washington, DC 20590.

Comments should refer to the application number and be submitted in triplicate. If confirmation of receipt of comments is desired, include a self-addressed stamped postcard showing the exemption number.

FOR FURTHER INFORMATION CONTACT: Copies of the applications are available for inspection in the Records Center, Nassif Building, 400 7th Street, SW., Washington, DC or at http://dms.dot.gov.

This notice of receipt of applications for modification of exemptions is published in accordance with Part 107 of the Federal hazardous materials transportation law (49 U.S.C. 5117(b); 49 CFR 1.53(b)).

Issued in Washington, DC, on February 22, 2000.
J. Suzanne Hedgepeth,
Director, Office of Hazardous Materials Exemptions and Approvals.

Application No. | Docket No. | Applicant | Modification of exemption
11202-M |  | Newport News Shipbuilding and Dry Dock Company, Newport News, VA ¹ | 11202
12056-M | RSPA-1998-3730 | Department of Defense (MTMC), Falls Church, VA ² | 12056
12178-M | RSPA-1999-5050 | STC Technologies, Inc., Bethlehem, PA ³ | 12178
12378-M | RSPA-1999-6568 | Federal Express Corporation, Memphis, TN ⁴ | 12378
12384-M | RSPA-1999-6561 | Oilair Hydraulics, Inc., Houston, TX ⁵ | 12384
¹ To modify the exemption to allow for an expanded route for the intra-plant transportation, which utilizes a public street, of certain hazardous materials in quantities not to exceed 55 gallons to be transported as non-regulated.
² To modify the exemption to eliminate the private carrier provision and provide for an additional movement location for the transportation of Dinitrogen tetroxide, liquefied and Division 6.1 materials in propellant tanks designed to a military specification.
³ To modify the exemption to expand the relief granted in paragraph 6 to include exportation.
⁴ To modify the exemption to eliminate the recordkeeping requirements outlined in the exemption for the transportation of dry ice not meeting the exceptions identified in Section 175.10.
⁵ To reissue the exemption originally issued on an emergency basis authorizing the transportation of non-flammable gas in non-DOT specification hydraulic accumulators.

[FR Doc. 00-4740 Filed 2-28-00; 8:45 am]

BILLING CODE 4910-60-M